DEPARTMENT OF LABOR

Employment and Training Administration

Notice of a Change in Status of an Extended Benefit (EB) Period for Puerto Rico

AGENCY: Employment and Training Administration, Labor.

ACTION: Notice.

SUMMARY: This notice announces a change in benefit period eligibility under the EB Program for Puerto Rico.

The following change has occurred since the publication of the last notice regarding the State's EB status:

• Puerto Rico's 13-week IUR has fallen below the 6% threshold and does not equal or exceed 120% of the average rate in the two prior years. As a result of data reported for the week ending November 27, 2010, Puerto Rico has triggered off of EB. Puerto Rico's payable period in the Federal-State Extended Benefit program will conclude December 18, 2010, and Puerto Rico will enter a mandatory 13 week “off” period.

Information for Claimants

The duration of benefits payable in the EB Program, and the terms and conditions on which they are payable, are governed by the Federal-State Extended Unemployment Compensation Act of 1970, as amended, and the operating instructions issued to the States by the U.S. Department of Labor. In the case of a State ending an EB period, the State Workforce Agency will furnish a written redetermination of benefit eligibility to each individual who was potentially eligible for EB under 20 CFR 615.13(c)(1).

Persons who wish to inquire about their rights or eligibility under the program should contact their State Workforce Agency.

FOR FURTHER INFORMATION CONTACT: Scott Gibbons, U.S. Department of Labor, Employment and Training Administration, Office of Unemployment Insurance, 200 Constitution Avenue, NW., Frances Perkins Bldg. Room S-4231, Washington, DC 20210, telephone number (202) 693-3008 (this is not a toll-free number) or by e-mail: gibbons.scott@dol.gov.

Dated: December 30, 2010.
Jane Oates,
Assistant Secretary, Employment and Training Administration.

[FR Doc. 2011-101 Filed 1-6-11; 8:45 am]

BILLING CODE 4510-FW-P